NUCLEAR REGULATORY COMMISSION

[NRC-2014-0002]

Emergency Planning Exemption Requests For Decommissioning Nuclear Power Plants

AGENCY: Nuclear Regulatory Commission.

ACTION: Draft interim staff guidance; request for extension of comment period.

SUMMARY: On January 10, 2014, the U.S. Nuclear Regulatory Commission (NRC) published a request for public comment on draft Interim Staff Guidance (ISG) NSIR/DPR-ISG-02, “Emergency Planning Exemption Requests for Decommissioning Nuclear Power Plants.” The public comment period was originally scheduled to close on March 11, 2014. The NRC has decided to extend the public comment period on this document to allow more time for members of the public to develop and submit their comments.

DATES: Comments must be filed no later than April 10, 2014. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2014-0002. Address questions about NRC dockets to Carol Gallagher; telephone: 301-287-3422; email: Carol.Gallagher@nrc.gov. For technical questions, contact the individual(s) listed in the FOR FURTHER INFORMATION CONTACT section of this document.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

FOR FURTHER INFORMATION CONTACT: Michael Wasem, telephone: 301-287-3793, email: michael.wasem@nrc.gov; or Michael Norris, telephone: 301-287-3754, email: michael.norris@nrc.gov. Both of the Office of Nuclear Security and Incident Response, U.S. Nuclear Regulatory Commission, Washington DC 20555-0001.

SUPPLEMENTARY INFORMATION:

I. Accessing Information and Submitting Comments

A. Accessing Information

Please refer to Docket ID NRC-2014-0002 when contacting the NRC about the availability of information regarding this document. You may access publicly-available information related to this document by any of the following methods:

• Federal Rulemaking Web site: Go to http://www.regulations.gov and search for Docket ID NRC-2014-0002.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft NSIR/DPR-ISG-02, “Emergency Planning Exemption Requests for Decommissioning Nuclear Power Plants,” is available in ADAMS under accession no. ML13304B442.

• NRC's PDR: You may examine and purchase copies of public documents at the NRC's PDR, Room O1-F21, One White Flint North, 11555 Rockville Pike, Rockville, Maryland 20852.

B. Submitting Comments

Please include Docket ID NRC-2014-0002 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

On January 10, 2014 (79 FR 1900), the NRC published a request for public comment on draft NSIR/DPR-ISG-02, “Emergency Planning Exemption Requests for Decommissioning Nuclear Power Plants.” This document is being developed to assist NRC staff in the review of requests for exemptions from specific emergency preparedness regulations and license amendments for defueled station emergency plans submitted by nuclear power plant licensees after permanent cessation of plant operations.

The public comment period was originally scheduled to close on March 11, 2014. By letter dated February 20, 2014, the Nuclear Energy Institute requested a 30-day extension to the public comment period. Additional time was requested in order to incorporate comments that might result from the NRC's public meeting scheduled for March 6, 2014, concerning NSIR/DPR-ISG-02. The NRC has decided to extend the public comment period on this document to allow more time for members of the public to use information from the March 6, 2014, public meeting to develop their comments. The deadline for submitting comments will be extended to April 10, 2014.

Dated at Rockville, Maryland, this 28th day of February 2014.
For the Nuclear Regulatory Commission.
Joseph Anderson,
Acting Director, Division of Preparedness and Response, Office of Nuclear Security and Incident Response.

[FR Doc. 2014-05105 Filed 3-7-14; 8:45 am]

BILLING CODE 7590-01-P